DEPARTMENT OF HEALTH AND HUMAN SERVICES

Centers for Medicare & Medicaid Services

42 CFR Parts 410 and 414

[CMS-1476-CN]

RIN 0938-AL96

Medicare Program; Revisions to Payment Policies Under the Physician Fee Schedule for Calendar Year 2004; Correction

AGENCY: Centers for Medicare & Medicaid Services (CMS), HHS.

ACTION: Correction of proposed rule.

SUMMARY: This document corrects an error that appeared in the proposed rule published in the Federal Register on August 15, 2003 entitled “Revisions to Payment Policies Under the Physician Fee Schedule for Calendar Year 2004.”

FOR FURTHER INFORMATION CONTACT: Diane Milstead (410) 786-3355.

SUPPLEMENTARY INFORMATION:

I. Background

In FR Doc. 03-20662 of August 15, 2003, we published the proposed rule to update the physician fee schedule for CY 2004 (68 FR 49030). We identified an error and we are correcting it in the Correction of Errors section below.

II. Correction of Error

In FR Doc. 03-20662 of August 15, 2003 we are making the following correction:

On page 49058 in section III. A. 6. “Adjustments to RVUs to Match the New MEI Weights,” the last sentence of this discussion, which is in the second column, incorrectly states that the effects of these adjustments are included in Addendum B of the proposed rule. We also omitted the word “estimated” when we discussed changes to the RVUs. Therefore, we are replacing the last two sentences of this section with the following: “For this reason, we are proposing to reduce the physician work RVUs by an estimated 0.35 percent (0.9965) and the practice expense RVUs by an estimated 1.15 percent (0.9885) and increase the malpractice RVUs by an estimated 21.7 percent (1.217) to match the rebased MEI weights. We will include the effects of these adjustments in the physician fee schedule final rule and, as explained previously, we are not proposing a compensating adjustment to the conversion factor.”

III. Waiver of Proposed Rulemaking

We ordinarily publish a notice of proposed rulemaking in the Federal Register to provide a period for public comment prior to publication of a final notice. We can waive this procedure, however, if we find good cause that notice and comment procedure is impracticable, unnecessary, or contrary to the public interest and incorporate a statement of the finding and the reasons for it into the notice issued.

We find it unnecessary to undertake notice and comment rulemaking because this notice merely provides technical corrections to the proposed regulations. Therefore, we find good cause to waive notice and comment procedures.

(Catalog of Federal Domestic Assistance Program No. 93.773, Medicare—Hospital Insurance; and Program No. 93.774, Medicare—Supplementary Medical Insurance Program)
Dated: September 24, 2003.
Ann C. Agnew,
Executive Secretary to the Department.

[FR Doc. 03-24548 Filed 9-25-03; 8:45 am]

BILLING CODE 4120-01-P